COMMISSION ON CIVIL RIGHTS

Sunshine Act; Notice of Meeting

AGENCY: United States Commission on Civil Rights.

ACTION: Notice of meeting cancellation.

SUMMARY: On August 19, 2010 (75 FR 51238-51239), the U.S. Commission on Civil Rights announced a business meeting to be held on Friday, August 27, 2010 via teleconference. On Wednesday, August 25, 2010, the meeting was cancelled. The decision to cancel the meeting was too close in time to the date and time of the meeting for the publication of a cancellation notice to appear in advance of the scheduled meeting date. The details of the cancelled meeting are:

DATE AND TIME: Friday, August 27, 2010; 11:30 a.m. EDT.

PLACE: Via Teleconference.

Public Dial In: 1-800-597-7623.

Conference ID # 94458880.

Meeting Agenda

This meeting is open to the public, except where noted otherwise.

I. Approval of Agenda.

II. Program Planning.

• New Black Panther Party Enforcement Project.

• Sex Discrimination in Liberal Arts College Admissions Project.

• Timeline for Briefing Report on English-Only in the Workplace.

III. State Advisory Committee Issues.

• Wyoming SAC.

III. Approval of August 13 Meeting Minutes.

IV. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: August 26, 2010.
David Blackwood,
General Counsel.

[FR Doc. 2010-21681 Filed 8-26-10; 4:15 pm]

BILLING CODE 6335-01-P